DEPARTMENT OF COMMERCE

National Oceanic and Atmospheric Administration

50 CFR Part 679

[Docket No. 150916863-6211-02]

RIN 0648-XF064

Fisheries of the Exclusive Economic Zone Off Alaska; Several Groundfish Species in the Bering Sea and Aleutian Islands Management Area

AGENCY: National Marine Fisheries Service (NMFS), National Oceanic and Atmospheric Administration (NOAA), Commerce.

ACTION: Temporary rule; apportionment of reserves; request for comments.

SUMMARY: NMFS apportions amounts of the non-specified reserve to the total allowable catch (TAC) of Bering Sea and Aleutian Islands (BSAI) Alaska plaice, Kamchatka flounder, northern rockfish, skates, sculpins, sharks, and octopus in the BSAI management area. This action is necessary to allow the fisheries to continue operating. It is intended to promote the goals and objectives of the fishery management plan for the BSAI management area.

DATES: Effective November 29, 2016 through 2400 hrs, Alaska local time, December 31, 2016. Comments must be received at the following address no later than 4:30 p.m., Alaska local time, December 15, 2016.

ADDRESSES: You may submit comments on this document, identified by FDMS Docket Number NOAA-NMFS-2015-0118 by any of the following methods:

• Electronic Submission: Submit all electronic public comments via the Federal e-Rulemaking Portal. Go to, http://www.regulations.gov/docket?D=NOAA-NMFS-2015-0118, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Steve Whitney, 907-586-7228.

SUPPLEMENTARY INFORMATION: NMFS manages the groundfish fishery in the (BSAI) exclusive economic zone according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR parts 600 and 679.

In the BSAI, the 2016 TAC of Alaska plaice was established as 12,325 metric tons (mt), the 2016 TAC of Kamchatka flounder was established as 4,550 mt, the 2016 TAC of northern rockfish was established as 4,375 mt, the 2016 TAC of skates was established as 27,100 mt, the 2016 TAC of sculpins was established as 4,325 mt, the 2016 TAC of sharks was established as 125 mt, and the 2016 TAC of octopus was established as 400 mt by the final 2016 and 2017 harvest specifications for groundfish of the BSAI (81 FR 14773, March 18, 2016) and apportionment of non-specified reserves (81 FR 68369, October 4, 2016). In accordance with § 679.20(a)(3) the Regional Administrator, Alaska Region, NMFS, has reviewed the most current available data and finds that the TACs for BSAI Alaska plaice, Kamchatka flounder, northern rockfish, skates, sculpins, sharks, and octopus need to be supplemented from the non-specified reserve to promote efficiency in the utilization of fishery resources in the BSAI and allow fishing operations to continue.

Therefore, in accordance with § 679.20(b)(3), NMFS apportions from the non-specified reserve of groundfish 1,000 mt to the Alaska plaice TAC, 300 mt to the Kamchatka flounder TAC, 170 mt to the northern rockfish TAC, 402 mt to the skates TAC, 300 mt to the sculpins TAC, 5 mt to the sharks TAC, and 100 mt to the octopus TAC. These apportionments are consistent with § 679.20(b)(1)(i) and do not result in overfishing of any target species because the revised TACs and total allowable catch (TAC) are equal to or less than the specifications of the acceptable biological catch in the final 2016 and 2017 harvest specifications for groundfish in the BSAI (81 FR 14773; March 18, 2016) and apportionment of non-specified reserves (81 FR 68369; October 4, 2016).

The harvest specification for the 2016 TACs and TACs included in the harvest specifications for groundfish in the BSAI are revised as follows: The 2016 TAC is increased to 13,325 mt for Alaska plaice, 4,850 mt for Kamchatka flounder, 4,545 mt for northern rockfish, 27,502 mt for skates, 4,625 mt for sculpins, 130 mt for sharks, and 500 mt for BSAI octopus.

Classification

This action responds to the best available information recently obtained from the fishery. The Assistant Administrator for Fisheries, NOAA, (AA) finds good cause to waive the requirement to provide prior notice and opportunity for public comment pursuant to the authority set forth at 5 U.S.C. 553(b)(B) and § 679.20(b)(3)(iii)(A) as such a requirement is impracticable and contrary to the public interest. This requirement is impracticable and contrary to the public interest as it would prevent NMFS from responding to the most recent fisheries data in a timely fashion and would delay the apportionment of the non-specified reserves of groundfish to the BSAI Alaska plaice, Kamchatka flounder, northern rockfish, skates, sculpins, sharks, and octopus in the BSAI. Immediate notification is necessary to allow for the orderly conduct and efficient operation of this fishery, to allow the industry to plan for the fishing season, and to avoid potential disruption to the fishing fleet and processors. NMFS was unable to publish a notice providing time for public comment because the most recent, relevant data only became available as of November 22, 2016.

The AA also finds good cause to waive the 30-day delay in the effective date of this action under 5 U.S.C. 553(d)(3). This finding is based upon the reasons provided above for waiver of prior notice and opportunity for public comment.

Under § 679.20(b)(3)(iii), interested persons are invited to submit written comments on this action (see ADDRESSES) until December 15, 2016. This action is required by § 679.20 and is exempt from review under Executive Order 12866.

Authority: 16 U.S.C. 1801, et seq.

Dated: November 25, 2016.
Emily H. Menashes,
Acting Director, Office of Sustainable Fisheries, National Marine Fisheries Service.

[FR Doc. 2016-28814 Filed 11-29-16; 8:45 am]

BILLING CODE 3510-22-P